DEPARTMENT OF ENERGY

Federal Energy Regulatory Commission

Combined Notice of Filings

Take notice that the Commission has received the following Natural Gas Pipeline Rate and Refund Report filings:

Filings Instituting Proceedings

Docket Numbers: PR14-5-000.

Applicants: Washington Gas Light Company.

Description: Tariff filing per 284.123(b)(1)/.: WGL TARIFF FILING 2013—Clone to be effective 11/1/2013.

Filed Date: 11/1/13.

Accession Number: 20131101-5166.

Comments Due: 5 p.m. ET 11/22/13.

Docket Numbers: RP14-150-000.

Applicants: Enable Gas Transmission, LLC.

Description: Enable Gas Transmission, LLC submits tariff filing per 154.204: Negotiated Rate Filing—November 2013 Tenaska 9840 Att A to be effective 11/5/2013.

Filed Date: 11/5/13.

Accession Number: 20131105-5058.

Comments Due: 5 p.m. ET 11/18/13.

Docket Numbers: RP14-151-000.

Applicants: Northwest Pipeline LLC.

Description: Northwest Pipeline LLC submits tariff filing per 154.204: NWP 2013 Housekeeping Filing to be effective 12/5/2013.

Filed Date: 11/5/13.

Accession Number: 20131105-5060.

Comments Due: 5 p.m. ET 11/18/13.

Docket Numbers: RP14-152-000.

Applicants: National Grid LNG, LLC.

Description: National Grid LNG, LLC submits tariff filing per 154.204: Housekeeping Filing to be effective 1/1/2014.

Filed Date: 11/5/13.

Accession Number: 20131105-5080.

Comments Due: 5 p.m. ET 11/18/13.

Docket Numbers: RP14-154-000.

Applicants: PDC Energy, Inc., Alliance Petroleum Corporation.

Description: Joint Petition of PDC Energy, Inc. and Alliance Petroleum Corporation for Limited Waiver and Request for Expedited Action.

Filed Date: 11/5/13.

Accession Number: 20131105-5144.

Comments Due: 5 p.m. ET 11/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2013.
Nathaniel J. Davis, Sr.,
Deputy Secretary.

[FR Doc. 2013-27602 Filed 11-18-13; 8:45 am]

BILLING CODE 6717-01-P